DEPARTMENT OF TRANSPORTATION

Federal Aviation Administration

14 CFR Part 39

[Docket No. FAA-2018-0598; Product Identifier 2018-SW-030-AD; Amendment 39-21194; AD 2020-16-10]

RIN 2120-AA64

Airworthiness Directives; Bell Textron Inc. (Type Certificate Previously Held by Bell Helicopter Textron Inc.) Helicopters

AGENCY: Federal Aviation Administration (FAA), DOT.

ACTION: Final rule.

SUMMARY: The FAA is adopting a new airworthiness directive (AD) for certain Bell Textron Inc. (Bell) Model 204B, 205A, 205A-1, 205B, 212, 214B, 214B-1, 412, 412CF, and 412EP helicopters. This AD was prompted by a report of a shoulder harness seat belt comfort clip (comfort clip) interfering with the seat belt inertia reel. This AD requires removing comfort clips from service and inspecting the seat belt shoulder harness (harness) for a rip or an abrasion. The actions of this AD are intended to address an unsafe condition on these products.

DATES: This AD is effective September 3, 2020.

ADDRESSES: For service information identified in this final rule, contact Bell Textron Inc., P.O. Box 482, Fort Worth, TX 76101; telephone 817-280-3391; fax 817-280-6466; or at https://www.bellcustomer.com. You may view the referenced service information at the FAA, Office of the Regional Counsel, Southwest Region, 10101 Hillwood Pkwy., Room 6N-321, Fort Worth, TX 76177.

Examining the AD Docket

You may examine the AD docket on the internet at https://www.regulations.gov by searching for and locating Docket No. FAA-2018-0598; or in person at Docket Operations between 9 a.m. and 5 p.m., Monday through Friday, except Federal holidays. The AD docket contains this AD, any comments received, and other information. The address for Docket Operations is U.S. Department of Transportation, Docket Operations, M 30, West Building Ground Floor, Room W12 140, 1200 New Jersey Avenue SE, Washington, DC 20590.

FOR FURTHER INFORMATION CONTACT: Kuethe Harmon, Safety Management Program Manager, DSCO Branch, FAA, 10101 Hillwood Pkwy., Fort Worth, TX 76177; telephone 817-222-5198; fax: 817-222-4960; email: Kuethe.Harmon@faa.gov.

SUPPLEMENTARY INFORMATION:

Discussion

The FAA issued a notice of proposed rulemaking (NPRM) to amend 14 CFR part 39 by adding an AD that would apply to Bell Model 204B, 205A, 205A-1, 205B, 212, 214B, 214B-1, 412, 412CF, and 412EP helicopters with a comfort clip part number (P/N) D7LZ-6560286-A, D7LZ-6560286-B, or 504636-401 installed. The NPRM published in the Federal Register on April 6, 2020 (85 FR, 19113). The NPRM was prompted by a series of service bulletins issued by Bell reporting an issue with comfort clip P/Ns D7LZ-6560286-A, D7LZ-6560286-B, and 504636-401, which are installed on seat belt assemblies. A design review by Leonardo S.p.A. Helicopter (formerly Agusta S.p.A., Finmeccanica S.p.A.) indicates the use of the affected comfort clips could jeopardize, in cases of impact or deceleration, the correct functionality of the seat belt or the seat belt inertia reel. The NPRM proposed to require removing comfort clips P/Ns D7LZ-6560286-A, D7LZ-6560286-B, and 504636-401from service and inspecting each harness for a rip or an abrasion. The FAA is issuing this AD to address the unsafe condition on these products.

Comments

The FAA gave the public the opportunity to participate in developing this AD, but the FAA did not receive any comments on the NPRM.

FAA's Determination

The FAA has reviewed the relevant information and determined that an unsafe condition exists and is likely to exist or develop on other helicopters of these same type designs and that air safety and the public interest require adopting the AD requirements as proposed.

Related Service Information

The FAA reviewed Bell Alert Service Bulletin (ASB) 204B-15-70 for Model 204B helicopters, Bell ASB 205-15-113 for Model 205A and 205A-1 helicopters, Bell ASB 205B-15-66 for Model 205B helicopters, Bell ASB 212-15-156 for Model 212 helicopters, Bell ASB 412-15-170 for Model 412 and 412EP helicopters, and Bell ASB 412CF-15-60 for Model 412CF helicopters, all dated January 20, 2016. The FAA also reviewed Bell ASB 214-15-76, dated January 11, 2016, for Model 214B and 214B-1 helicopters. This service information specifies removing the comfort clips from all crew and passenger seat belt assemblies.

Differences Between This AD and the Service Information

The service information specifies a compliance time of within 100 flight hours or no later than February 21, 2016, and does not specify inspecting each harness for a rip and an abrasion. This AD requires a compliance time of within 50 hours TIS and requires inspecting each harness for a rip and an abrasion. The FAA determined that including an inspection for harness damage is necessary to correct the unsafe condition.

Costs of Compliance

The FAA estimates that this AD affects 210 helicopters of U.S. registry. The FAA estimates that operators may incur the following costs in order to comply with this AD. Labor costs are estimated at $85 per work-hour.

Removing a comfort clip takes about 0.5 work-hour, for an estimated cost of $43 per comfort clip.

Inspecting a harness takes about 0.25 work-hour, for an estimated cost of $21 per harness.

If required, replacing a harness takes about 1 work-hour and parts cost about $1,050 for an estimated replacement cost of $1,135 per harness.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-16-10 Bell Textron Inc. (Type Certificate Previously Held by Bell Helicopter Textron Inc.): Amendment 39-21194; Docket No. FAA-2018-0598; Product Identifier 2018-SW-030-AD.

(a) Applicability

This AD applies to Bell Textron Inc. (Bell) Model 204B, 205A, 205A-1, 205B, 212, 214B, 214B-1, 412, 412CF, and 412EP helicopters, certificated in any category, with a shoulder harness seat belt comfort clip (comfort clip) part numbers (P/Ns) D7LZ-6560286-A, D7LZ-6560286-B, or 504636-401, installed.

(b) Unsafe Condition

This AD defines the unsafe condition as a comfort clip interfering with the seat belt inertia reel. The FAA is issuing this AD to prevent the seat belt from locking. This condition could result in injury to the occupant during an emergency landing.

(c) Effective Date

This AD becomes effective September 3, 2020.

(d) Compliance

You are responsible for performing each action required by this AD within the specified compliance time unless it has already been accomplished prior to that time.

(e) Required Actions

(1) Within 50 hours time-in-service:

(i) Remove from service each comfort clip P/Ns D7LZ-6560286-A, D7LZ-6560286-B, or 504636-401 from the shoulder harness seat belt (harness).

(ii) Inspect each harness for a rip and an abrasion. If there is a rip or any abrasion, before further flight, remove from service the harness.

(2) After the effective date of this AD, do not install comfort clip P/Ns D7LZ-6560286-A, D7LZ-6560286-B, or 504636-401 on any helicopter.

(f) Alternative Methods of Compliance (AMOCs)

(1) The Manager, DSCO Branch, FAA, may approve AMOCs for this AD. Send your proposal to: Kuethe Harmon, Safety Management Program Manager, DSCO Branch, FAA, 10101 Hillwood Pkwy., Fort Worth, TX 76177; telephone 817-222-5198; fax: 817-222-4960; email: kuethe.harmon@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Related Information

Bell Helicopter Textron Alert Service Bulletin 204B-15-70 for Model 204B helicopters, Bell ASB 205-15-113 for Model 205A and 205A-1 helicopters, Bell ASB 205B-15-66 for Model 205B helicopters, Bell ASB 212-15-156 for Model 212 helicopters, Bell ASB 412-15-170 for Model 412 and 412EP helicopters, and Bell ASB 412CF-15-60 for Model 412CF helicopters, all dated January 20, 2016, and Bell ASB 214-15-76, dated January 11, 2016, for Model 214B and 214B-1 helicopters, all of which are not incorporated by reference, contain additional information about the subject of this AD. For service information identified in this AD, contact Bell Textron Inc., P.O. Box 482, Fort Worth, TX 76101; telephone 817-280-3391; fax 817-280-6466; or at https://www.bellcustomer.com. You may view a copy of the information at the FAA, Office of the Regional Counsel, Southwest Region, 10101 Hillwood Pkwy., Room 6N-321, Fort Worth, TX 76177.

(h) Subject

Joint Aircraft Service Component (JASC) Code: 2500, Cabin Equipment/Furnishings.

Issued on July 24, 2020.
Gaetano A. Sciortino,
Deputy Director for Strategic Initiatives, Compliance & Airworthiness Division, Aircraft Certification Service.

[FR Doc. 2020-16490 Filed 7-29-20; 8:45 am]

BILLING CODE 4910-13-P